DEPARTMENT OF EDUCATION

Office of Safe and Drug-Free Schools

Overview Information: Elementary and Secondary School Counseling Programs Notice Inviting Applications for New Awards for Fiscal Year (FY) 2004.

Catalog of Federal Domestic Assistance (CFDA) Number: 84.215E.

DATES: Applications Available: February 3, 2004.

Deadline for Transmittal of Applications: March 19, 2004.

Deadline for Intergovernmental Review: May 18, 2004.

Eligible applicants: Local educational agencies.

Estimated available funds: $11,500,000. Contingent upon the availability of funds, the Secretary may make additional awards in FY 2005 from the rank-ordered list of unfunded applicants from this competition.

Estimated Range of Awards: $250,000-$400,000.

Maximum Award: Section 5421(a)(5) of the Elementary and Secondary Education Act of 1965, as amended by the No Child Left Behind Act of 2001, 20 U.S.C. 7245 (ESEA) limits the amount of a grant under this program in any one year to a maximum of $400,000.

Estimated Number of Awards: 35.

Note: The Department is not bound by any estimates in this notice.

Project Period: Up to 36 months.

I. Full Text of Announcement

Purpose of Program: The purpose of the Elementary and Secondary School Counseling program is to award grants to local educational agencies for the purpose of establishing or expanding elementary and secondary school counseling programs.

Priority: In accordance with 34 CFR 75.105(b)(2)(iv), this priority is from Section 5421 of the ESEA.

Absolute Priority: For FY 2004 this priority is an absolute priority. Under 34 CFR 75.105(c)(3) we consider only applications that meet this priority.

This priority is: the establishment or expansion of elementary school counseling programs. Under 34 CFR part 77, an elementary school is a day or residential school that provides elementary education, as determined under State law. Applicants must also address the requirements in section 5421(c)(2) of the ESEA. A copy of the statute authorizing this competition is included in the application package.

Program Authority: 20 U.S.C. 7245.

Applicable Regulations: The Education Department General Administrative Regulations (EDGAR) in 34 CFR parts 75, 77, 79, 80, 81, 82, 84, 85, 97, 98, 99, and 299.

II. Award Information

Type of Award: Discretionary grants.

Estimated Available Funds: $11,500,000. Contingent upon the availability of funds, the Secretary may make additional awards in FY 2005 from the rank-ordered list of unfunded applicants from this competition.

Estimated Range of Awards: $250,000-$400,000.

Maximum Award: Section 5421(a)(5) of the ESEA limits the amount of a grant under this program in any one year to a maximum of $400,000.

Estimated Number of Awards: 35.

Note: The Department is not bound by any estimates in this notice.

Project Period: Up to 36 months.

III. Eligibility Information

1. Eligible Applicants: Local educational agencies.

2. Cost Sharing or Matching: This program does not involve cost sharing or matching, but does involve supplement-not-supplant funding provisions. Section 5421(b)(2)(G) of the ESEA requires applicants under the program to assure that program funds will be used to supplement, and not supplant, any other Federal, State, or local funds used for providing school-based counseling and mental health services to students.

3. Other: Section 5421(g)(2) of the ESEA requires that for any fiscal year in which the amount available for this program is less than $40,000,000 the Secretary makes grants to local educational agencies only to establish or expand counseling programs in elementary schools. The FY 2004 appropriation for this program is $33,799,400. Therefore, under this notice applicants must propose projects that establish or expand counseling programs only in elementary schools.

IV. Application and Submission Information

1. Address to Request Application Package: Paper copies of applications for this program are available from the Education Publications Center (ED Pubs), P.O. Box 1398, Jessup, Maryland 20794-1398. Telephone (toll free): 1-877-433-7827. Fax: (301) 470-1244. If you use a telecommunications device for the deaf (TDD), you may call (toll free): 1-877-576-7734.

You may also contact ED Pubs at its Web site: http://www.ed.gov/pubs/edupubs.html or you may contact ED Pubs at its e-mail address, edpubs@inet.ed.gov, in order to request a paper copy of the application for this program.

If you request an application from ED Pubs, be sure to identify this competition as follows: CFDA number 84.215E.

The application package for this program is also available to be downloaded from the Department's Web site at: http://www.ed.gov/fund/grant/apply/grantapps/index.html. The application package is available in both PDF and WORD formats.

Individuals with disabilities may obtain a copy of the application package for this program in an alternative format (e.g., Braille, large print, audiotape, or computer diskette) on request to the program contact person listed under For Further Information Contact elsewhere in this notice.

2. Content and Form of Application Submission: Requirements concerning the content of an application, together with the forms you must submit, are in the application package for this program.

3. Submission Dates and Times: Applications Available: February 3, 2004.

Deadline for Transmittal of Applications: March 19, 2004. The dates and times for the transmittal of applications by mail or by hand (including a courier service or commercial carrier) are in the application package for this program. The application package also specifies the hours of operation of the e-Application Web site.

We do not consider an application that does not comply with the deadline requirements.

Deadline for Intergovernmental Review: May 18, 2004.

4. Intergovernmental Review: This program is subject to Executive Order 12372 and the regulations in 34 CFR part 79. Information about Intergovernmental Review of Federal Programs under Executive Order 12372 is in the application package for this program.

5. Funding Restrictions: Section 5421(d) of the ESEA requires that no more than four percent of a grant award may be used for administrative costs to carry out the project.

6. Other Submission Requirements: Instructions and requirements for the transmittal of applications by mail or by hand (including a courier service or commercial carrier) are in the application package for this program.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

We are continuing to expand our pilot project for electronic submission of applications to include additional formula grant programs and additional discretionary grant competitions. Elementary and Secondary School Counseling Programs—CFDA 84.215E is one of the programs included in the pilot project. If you have an applicant under Elementary and Secondary School Counseling Programs, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We will continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability

If you elect to participate in the e-Application pilot for Elementary and Secondary School Counseling Programs and you are prevented from submitting your application on the application deadline date because the e-Application system is unavailable, we will grant you an extension of one business day in order to transmit your application electronically, by mail, or by hand delivery. We will grant this extension if-

1. You are a registered user of e-Application, and have initiated an e-Application for this competition; and

2. (a) The e-Application system is unavailable for 60 minutes or more between the house of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for Elementary and Secondary School Counseling Programs at: http://e-grants.ed.gov.

V. Application Review Information

1. Selection Criteria: The selection criteria for this program are in the application package.

2. Review and Selection Process: Applicants also must address the requirements in section 5421(c)(2) of the ESEA.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report. If you receive a multi-year award, you must submit an annual report that provides the most current performance and financial expenditure information as specified by the Secretary in 34 CFR 75.118.

4. Performance Measures: The Secretary has established the following performance measures for assessing the effectiveness of the Elementary and Secondary School Counseling Programs: (1) The percentage of grantees closing the gap between their student/mental health professional ratios and student/mental health professional ratios recommended by the American School Health Association will increase; and (2) the number of referrals/suspensions for disciplinary reasons for students receiving counseling under the program will decrease. These two measures constitute the Department's indicators of success for this program. Consequently, applicants for a grant under this program are advised to give careful consideration to these two outcomes in conceptualizing the design, implementation, and evaluation of their proposed project. If funded, applicants will be asked to collect and report data in their annual performance reports about progress toward these goals. The Secretary will also use this information to respond to reporting requirements concerning this program established in Section 5421(f) of the ESEA.

VII. Agency Contact

FOR FURTHER INFORMATION CONTACT: Loretta McDaniel, U.S. Department of Education, 400 Maryland Avenue, SW., room 3E220, Washington, DC 20202-6450. Telephone: (202) 260-2661, or by e-mail: loretta.mcdaniel@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 29, 2004.
William Modzeleski,
Associate Deputy Under Secretary for Safe and Drug-Free Schools.

[FR Doc. 04-2175 Filed 2-2-04; 8:45 am]

BILLING CODE 4000-01-P